ENVIRONMENTAL PROTECTION AGENCY

[FRL-8523-6]

Clean Water Act Section 303(d): Availability of 16 Total Maximum Daily Loads (TMDL) in Louisiana

AGENCY: Environmental Protection Agency (EPA).

ACTION: Notice of availability.

SUMMARY: This notice announces the availability for comment of the administrative record files for 16 TMDLs and the calculations for these TMDLs prepared by EPA Region 6 for waters listed in the Pearl River and the Terrebonne River Basins of Louisiana, under section 303(d) of the Clean Water Act (CWA). These TMDLs were completed in response to a court order in the lawsuit styled Sierra Club, et al. v. Clifford, et al., No. 96-0527, (E.D. La.).

DATES: Comments must be submitted in writing to EPA on or before March 3, 2008.

ADDRESSES: Comments on the 16 TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the 16 TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes six of these TMDLs pursuant to a consent decree entered in this lawsuit.

EPA Seeks Comment on 16 TMDLs

By this notice EPA is seeking comment on the following 16 TMDLs for waters located within Louisiana basins:

Subsegment | Waterbody name | Pollutant
090101 | Pearl River—MS State Line to Pearl River Navigation Canal | Fecal Coliform.
090104 | Peters Creek—Headwaters to Pearl River | Fecal Coliform.
090106 | Holmes Bayou—From the Pearl River to the West Pearl River (scenic) | Turbidity.
090201 | West Pearl River—From Headwaters to confluence with Holmes Bayou (scenic) | Turbidity.
090202 | West Pearl River—From confluence with Holmes Bayou to the Rigolets (includes east and west mouths) (scenic) | Turbidity.
090301 | Pushepatapa Creek—MS State Line to Pearl River floodplain | Fecal Coliform.
090401 | Bogue Lusa Creek—Headwaters to Pearl River | Fecal Coliform.
090501 | Bogue Chitto River—From MS State Line to Pearl River Navigation Canal (scenic) | Turbidity.
090502 | Big Silver Creek—Headwaters to Bogue Chitto River | Fecal Coliform.
090505 | Bonner Creek—Headwaters to Bogue Chitto River | Fecal Coliform.
090506 | Thigpen Creek—Headwaters to Bogue Chitto River | Fecal Coliform.
090105 | Pearl River Navigation Canal—From Pools Bluff to Lock No. 3 (includes east and west mouths) (scenic) | Dissolved Oxygen.
090204 | Pearl River Navigation Canal—Below Lock No. 3 | Dissolved Oxygen.
090207 | Middle Pearl River and West Middle Pearl River—From West Pearl River to Little Lake | Dissolved Oxygen.
120606 | Bayou Blue—Grand Bayou Canal to Boundary between segments 1206 and 1207 (Estuarine) | Dissolved Oxygen and Nutrients.

EPA requests that the public provide to EPA any water quality related data and information that may be relevant to the calculations for the 16 TMDLs. EPA will review all data and information submitted during the public comment period and revise the TMDLs where appropriate. EPA will then forward the TMDLs to the Louisiana Department of Environmental Quality (LDEQ). The LDEQ will incorporate the TMDLs into its current water quality management plan.

Dated: January 25, 2008.
Miguel I. Flores,
Director, Water Quality Protection Division, EPA Region 6.

[FR Doc. E8-1897 Filed 1-31-08; 8:45 am]

BILLING CODE 6560-50-P